DEPARTMENT OF ENERGY

Office of Energy Efficiency and Renewable Energy

10 CFR Part 430

[Docket No. EE-2006-STD-0131]

RIN 1904-AA92

Energy Conservation Standards for General Service Fluorescent Lamps, Incandescent Reflector Lamps, and General Service Incandescent Lamps: Public Meeting and Availability of the Framework Document

AGENCY: Office of Energy Efficiency and Renewable Energy, Department of Energy.

ACTION: Notice of public meeting and availability of the Framework Document.

SUMMARY: The Department of Energy (DOE or Department) will hold an informal public meeting to discuss and receive comments on issues it will address in this rulemaking proceeding. The Department is initiating the rulemaking process to amend energy conservation standards for general service fluorescent lamps, incandescent reflector lamps, and general service incandescent lamps. The Department also encourages written comments on these subjects. To inform stakeholders and facilitate this process, DOE has prepared a Framework Document, a draft of which is available at: http://www.eere.energy.gov/buildings/appliance_standards/.

DATES: The Department will hold a public meeting on Thursday, June 15, 2006, from 9 a.m. to 5 p.m. in Washington, DC. Any person requesting to speak at the public meeting should submit a request to speak before 4 p.m., Thursday, June 8, 2006. The Department must receive a signed original and an electronic copy of statements to be given at the public meeting before 4 p.m., Thursday, June 8, 2006. Written comments are welcome, especially following the public meeting, and should be submitted by Thursday, June 29, 2006.

ADDRESSES: The public meeting will be held at the U.S. Department of Energy, Forrestal Building, Room 1E-245, 1000 Independence Avenue, SW., Washington, DC 20585-0121. (Please note that foreign nationals participating in the public meeting are subject to advance security screening procedures. If a foreign national wishes to participate in the workshop, please inform DOE of this fact as soon as possible by contacting Ms. Brenda Edwards-Jones at (202) 586-2945 so that the necessary procedures can be completed.)

Stakeholders may submit comments, identified by docket number EE-2006-STD-0131 and/or RIN number 1904-AA92, by any of the following methods:

• Federal eRulemaking Portal: http://www.regulations.gov. Follow the instructions for submitting comments.

• E-mail: fluorescent_and_incandescent_lamps.rulemaking@ee.doe.gov. Include EE-2006-STD-0131 and/or RIN 1904-AA92 in the subject line of the message.

• Mail: Ms. Brenda Edwards-Jones, U.S. Department of Energy, Building Technologies Program, Mailstop EE-2J, Framework Document for Fluorescent and Incandescent Lamps, EE-2006-STD-0131 and/or RIN 1904-AA92, 1000 Independence Avenue, SW., Washington, DC 20585-0121. Please submit one signed paper original.

• Hand Delivery/Courier: Ms. Brenda Edwards-Jones, U.S. Department of Energy, Building Technologies Program, Room 1J-018, 1000 Independence Avenue, SW., Washington, DC 20585-0121. Telephone: (202) 586-2945. Please submit one signed paper original.

Instructions: All submissions received must include the agency name and docket number or Regulatory Information Number (RIN) for this rulemaking.

Docket: For access to the docket to read background documents, a copy of the transcript of the public meeting, or comments received, go to the U.S. Department of Energy, Forrestal Building, Room 1J-018 (Resource Room of the Building Technologies Program), 1000 Independence Avenue, SW., Washington, DC 20585-0121, (202) 586-9127, between 9 a.m. and 4 p.m., Monday through Friday, except Federal holidays. Please call Ms. Brenda Edwards-Jones at the above telephone number for additional information regarding visiting the Resource Room.

FOR FURTHER INFORMATION CONTACT: Linda Graves, Esq., U.S. Department of Energy, Office of Energy Efficiency and Renewable Energy, Building Technologies, EE-2J, 1000 Independence Avenue, SW., Washington, DC 20585-0121, (202) 586-1851. E-mail: linda.graves@ee.doe.gov. Thomas B. DePriest, Esq., U.S. Department of Energy, Office of General Counsel, GC-72, 1000 Independence Avenue, SW., Washington, DC 20585-0121, (202) 586-9507. E-mail: Thomas.DePriest@hq.doe.gov.

SUPPLEMENTARY INFORMATION: The Energy Policy and Conservation Act (EPCA or the Act) of 1975 (42 U.S.C. 6291-6309) established an energy conservation program for major household appliances. The National Energy Conservation Policy Act of 1978 (NECPA) amended EPCA to add Part C of Title III (42 U.S.C. 6311-6317), which established an energy conservation program for certain industrial equipment. Additional amendments to EPCA have given DOE the authority to regulate the energy efficiency of several products, including certain fluorescent and incandescent lamps, the products that are the focus of this rulemaking. Amendments to EPCA in the Energy Policy Act of 1992 (EPACT 1992), Public Law 102-486, established energy conservation standards for residential, commercial and industrial general service fluorescent lamps and incandescent reflector lamps, as well as requirements to conduct two cycles of rulemakings for determining whether these standards should be amended.¹ (42 U.S.C. 6295(i)(1), (3)-(4)) In addition, EPCA provides that within twenty-four months after the Federal Trade Commission's (FTC) labeling requirements have become effective for general service fluorescent lamps and general service incandescent lamps, DOE must initiate a rulemaking to determine if the standards in effect for such lamps should be amended so that they would be applicable to additional general service fluorescent and general service incandescent lamps. (42 U.S.C. 6295(i)(5)) Furthermore, according to EPCA, DOE must publish a rule within eighteen months of initiating the rulemaking. (Id.) The FTC published its labeling requirements for covered lamps on May 13, 1994, which had an effective date of May 15, 1995. 59 FR 25176. Previously, the Department did not take action on the requirements of 42 U.S.C. 6295(i) because lamps were assigned low priority based on public comment and potential energy savings estimates in the priority setting process.²

¹ Although EPACT 1992 placed regulatory authority, standards, and definitions for fluorescent and incandescent lamps under the energy conservation program for consumer products (42 U.S.C. 6291-6309), those provisions also apply to general service fluorescent and incandescent reflector lamps distributed for commercial use. (42 U.S.C. 6291(1)).

² See Appendix B to FY 2005 Preliminary Priority-Setting Summary Report on the DOE Web page at: http://www.eere.energy.gov/buildings/appliance_standards/priority_setting.html.

Section 1.2 of the Framework Document provides detail on the distinction between fluorescent lamps and general service fluorescent lamps, and the differences among incandescent lamps, incandescent reflector lamps and general service incandescent lamps. The following paragraphs discuss the statutory requirements and actions that DOE is taking for each of the lamp types covered in this rulemaking.³

³ This rulemaking addresses “backlog” rulemakings for incandescent general service lamps, fluorescent lamps, and incandescent reflector lamps that are identified in the report that DOE submitted to Congress on January 31, 2006, Energy Conservation Standards Activities, pursuant to section 141 of the Energy Policy Act of 2005 (Pub. L. 109-58) and to the Conference Report (109-275) to the Fiscal Year 2006, Energy and Water Development Appropriations Act. The report is available as a PDF file on the DOE Web page at: http://www.eere.energy.gov/buildings/appliance_standards/2006_schedule_setting.html.

EPCA's standards for general service fluorescent lamps require that they meet prescribed minimum efficacy levels per given color rendering index (CRI) levels.⁴ In this rulemaking, DOE is conducting its first review, pursuant to 42 U.S.C. 6295(i)(3), to determine if these standards should be amended, while fulfilling the additional requirement, in 42 U.S.C. 6295(i)(5), to determine if the standards should be applicable to additional general service fluorescent lamps.

⁴ The Act defines “lamp efficacy” as “the lumen output of a lamp divided by its wattage, expressed in lumens per watt (LPW).” (42 U.S.C. 6291(30)(M)) It defines “color rendering index” (CRI) as “the measure of the degree of color shift objects undergo when illuminated by a light source as compared with the color of those same objects when illuminated by a reference source of comparable color temperature.” (42 U.S.C. 6291(30)(J)).

As with general service fluorescent lamps, EPCA establishes energy conservation standards for incandescent reflector lamps, requiring that certain lamps meet prescribed efficacy levels. In this rulemaking, the Department is conducting its first review, pursuant to 42 U.S.C. 6295(i)(3), to determine if the standards should be amended. The Department is also fulfilling the additional requirement in 42 U.S.C. 6295(i)(5) to determine whether the standards should cover additional general service incandescent lamps, including additional incandescent reflector lamps.

To begin the required rulemaking process, the Department prepared the Framework Document to present the issues and explain the analyses and process it anticipates using to amend the energy conservation standards for general service fluorescent lamps, incandescent reflector lamps, and general service incandescent lamps. The focus of the public meeting will be to discuss the analyses and issues identified in various sections of the Framework Document. During the Department's presentation to stakeholders, the Department will discuss each item listed in the Framework Document as an issue for comment. The Department will also make a brief presentation on the rulemaking process for these products. The Department encourages those who wish to participate in the public meeting to obtain the Framework Document and be prepared to discuss its contents. A copy of the draft Framework Document is available at: http://www.eere.energy.gov/buildings/appliance_standards/. However, public meeting participants need not limit their discussions to the topics in the Framework Document. The Department is also interested in receiving views concerning other relevant issues that participants believe would affect energy conservation standards for these products. The Department also welcomes all interested parties, whether or not they participate in the public meeting, to submit in writing by Thursday, June 29, 2006, comments and information on the matters addressed in the Framework Document and on other matters relevant to consideration of standards for these lamps.

The public meeting will be conducted in an informal, facilitated, conference style. A court reporter will be present to prepare a transcript of the meeting. There shall be no discussion of proprietary information, costs or prices, market shares, or other commercial matters regulated by the U.S. antitrust laws.

After the public meeting and the expiration of the period for submitting written statements, the Department will begin collecting data, conducting the analyses as discussed at the public meeting, and reviewing the comments received.

Anyone who would like to participate in the public meeting, receive meeting materials, or be added to the DOE mailing list to receive future notices and information regarding fluorescent and incandescent lamps, should contact Ms. Brenda Edwards-Jones at (202) 586-2945.

Issued in Washington, DC, on May 24, 2006.
Douglas L. Faulkner,
Principal Deputy Assistant Secretary, Energy Efficiency and Renewable Energy.

[FR Doc. E6-8356 Filed 5-30-06; 8:45 am]

BILLING CODE 6450-01-P